DEPARTMENT OF ENERGY

Federal Energy Regulatory Commission

[Docket No. ER01-3055-001]

Eagle Point Cogeneration Partnership; Notice of Filing

November 20, 2001.

Take notice that on November 16, 2001, Eagle Point Cogeneration Partnership (Eagle Point), filed with the Federal Energy Regulatory Commission (Commission) a revised tariff with provisions that: (1) prohibits power sales to, or purchases from, an affiliated public utility with a franchised service territory absent the filing for separate authorization under section 205 of the Federal Power Act; and (2) establishes the pricing parameters for the reassignment of excess transmission capacity. Further, Eagle Point requested a shortened notice period and expedited consideration of its application in this proceeding.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before November 30, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-29408 Filed 11-26-01; 8:45 am]

BILLING CODE 6717-01-P